DEPARTMENT OF HEALTH AND HUMAN SERVICES

Food and Drug Administration

[Docket No. 2005N-0488]

Animal Drug User Fee Act; Public Meeting; Cancellation

AGENCY: Food and Drug Administration, HHS.

ACTION: Notice.

SUMMARY: The Food and Drug Administration (FDA) is canceling the meeting on the Animal Drug User Fee Act scheduled for February 24, 2006. This meeting was announced in the Federal Register of December 28, 2005 (70 FR 76851). FDA will continue to seek public comments relative to the program's overall performance and reauthorization as directed by Congress. FDA will publish another notice in the Federal Register announcing any plans for rescheduling the public meeting.

DATES: Written comments may be submitted at any time.

ADDRESSES: You may submit written comments to the Division of Dockets Management (HFA-305), Food and Drug Administration, 5630 Fishers Lane, rm. 1061, Rockville, MD 20852. Submit electronic comments to http://www.fda.gov/dockets/ecomments. Follow the instructions for submitting comments.

FOR FURTHER INFORMATION CONTACT: Aleta Sindelar, Center for Veterinary Medicine (HFV-3), Food and Drug Administration, 7519 Standish Pl., Rockville, MD 20855, 240-276-9004, FAX: 240-276-9020, e-mail: aleta.sindela@fda.hhs.gov.

SUPPLEMENTARY INFORMATION: If you would like to submit written comments to the docket regarding the Animal Drug User Fee Act, please send your comments to the Division of Dockets Management (see ADDRESSES). Submit a single copy of electronic comments or two paper copies of any written comments, except that individuals may submit one paper copy. Comments are to be identified with the docket number found in brackets in the heading of this document. Received comments may be reviewed in the Division of Dockets Management between 9 a.m. and 4 p.m., Monday through Friday.

Dated: February 15, 2006.
Jeffrey Shuren,
Assistant Commissioner for Policy.

[FR Doc. 06-1571 Filed 2-15-06; 2:42 pm]

BILLING CODE 4160-01-S